DEPARTMENT OF COMMERCE

International Trade Administration

[A-570-985]

Xanthan Gum From the People's Republic of China: Final Results of the Expedited Second Sunset Review of the Antidumping Duty Order

AGENCY: Enforcement and Compliance, International Trade Administration, Department of Commerce.

SUMMARY: The U.S. Department of Commerce (Commerce) finds that revocation of the antidumping duty (AD) order on xanthan gum from the People's Republic of China (China) would likely lead to continuation or recurrence of dumping at the level indicated in the “Final Results of Sunset Review” section of this notice.

DATES: Applicable February 2, 2024.

FOR FURTHER INFORMATION CONTACT: Luke Caruso, AD/CVD Operations, Office IV, Enforcement and Compliance, International Trade Administration, U.S. Department of Commerce, 1401 Constitution Avenue NW, Washington, DC 20230; telephone: (202) 482-2081.

SUPPLEMENTARY INFORMATION:

Background

On July 19, 2013, Commerce published the order on xanthan gum from China.¹ On October 2, 2023, Commerce published the notice of initiation of this second sunset review of the Order, pursuant to section 751(c)(2) of the Tariff Act of 1930, as amended (the Act).²

¹ See Xanthan Gum from the People's Republic of China: Amended Final Determination of Sales at Less Than Fair Value and Antidumping Duty Order, 78 FR 43143 (July 19, 2013) (Order).

² See Initiation of Five-Year (Sunset) Reviews, 88 FR 67729 (October 2, 2023).

In October 2023, we received a notice of intent to participate, consistent with 19 CFR 351.218(d), from CP Kelco U.S., Inc. (CP Kelco), a domestic interested party.³ CP Kelco claimed domestic interested party status under section 771(9)(C) of the Act as a producer of xanthan gum in the United States.⁴ Subsequently, on November 1, 2023, CP Kelco submitted a substantive response pursuant to 19 CFR 351.218(d)(3)(i).⁵ Commerce received no responses from respondent interested parties with respect to the Order covered by this sunset review. Consequently, Commerce notified the U.S. International Trade Commission (ITC),⁶ and conducted an expedited (120-day) sunset review of the Order.⁷

³ See Domestic Interested Party's Letter, “Xanthan Gum from the People's Republic of China—Notice of Intent to Participate in Sunset Review,” dated October 18, 2023 (Notice of Intent to Participate); see also Petitioner's Letter, “Request to File Out of Time due to Extraordinary Circumstances,” dated October 18, 2023; and Commerce's Letter, “Acceptance of Notice of Intent to Participate,” dated October 20, 2023. Because Commerce granted CP Kelco's request for an extension to file its notice of intent to participate, we consider CP Kelco's request to be timely filed pursuant to 19 CFR 351.218(d)(l)(i).

⁴ See Notice of Intent to Participate at 1.

⁵ See Domestic Interested Party's Letter, “Xanthan Gum from the People's Republic of China: Second Five Year (“Sunset”) Review of Antidumping Duty Order—Domestic Industry Substantive Response,” dated November 1, 2023.

⁶ See Commerce's Letter, “Sunset Reviews Initiated on October 2, 2023,” dated October 24, 2023; see also 19 CFR 351.218(e)(1)(ii)(C)(1).

⁷ See 19 CFR 351.218(e)(1)(ii)(C)(2).

Scope of the Order

The scope of the Order is xanthan gum. For a complete description of the scope of this Order, see the Issues and Decision Memorandum.⁸

⁸ See Memorandum, “Issues and Decision Memorandum for the Final Results of the Expedited Second Sunset Review of the Antidumping Duty Order on Xanthan Gum from the People's Republic of China,” dated concurrently with, and hereby adopted by, this notice (Issues and Decision Memorandum).

Analysis of Comments Received

A complete discussion of all issues raised in this sunset review are addressed in the accompanying Issues and Decision Memorandum, specifically the likelihood of continuation or recurrence of dumping and the magnitude of the dumping margins likely to prevail if the Order were revoked.⁹ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁹ Id.

Final Results of Sunset Review

Pursuant to sections 751(c)(1), 752(c)(1) and (3) of the Act, Commerce determines that revocation of the Order would be likely to lead to continuation or recurrence of dumping, and that the magnitude of the dumping margin likely to prevail would be up to 154.07 percent.¹⁰

¹⁰ See Xanthan Gum from the People's Republic of China: Final Determination of Sales at Less Than Fair Value, 78 FR 33351, 33353 (June 4, 2013), unchanged in Order, 78 FR at 43144.

Notification Regarding Administrative Protective Orders

This notice serves as the only reminder to parties subject to an administrative protective order (APO) of their responsibility concerning the return or destruction of proprietary information disclosed under APO in accordance with 19 CFR 351.305(a)(3). Timely written notification of the return or destruction of APO materials or conversion to judicial protective orders is hereby requested. Failure to comply with the regulations and terms of an APO is a violation which is subject to sanction.

Notification to Interested Parties

We are issuing and publishing the final results of this sunset review in accordance with sections 751(c), 752(c), and 777(i)(1) of the Act, and 19 CFR 351.218(e)(1)(ii)(C)(2) and 19 CFR 351.221(c)(5)(ii).

Dated: January 29, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely To Prevail

VII. Final Results of Sunset Review

VIII. Recommendation

[FR Doc. 2024-02140 Filed 2-1-24; 8:45 am]

BILLING CODE 3510-DS-P